NUCLEAR REGULATORY COMMISSION

[NRC-2012-0134]

Initial Test Program of Emergency Core Cooling Systems for New Boiling-Water Reactors

AGENCY: Nuclear Regulatory Commission.

ACTION: Regulatory guide; issuance.

SUMMARY: The U.S. Nuclear Regulatory Commission (NRC) is issuing a new regulatory guide (RG), 1.79.1, “Initial Test Program of Emergency Core Cooling Systems for New Boiling-Water Reactors.” This RG describes testing methods the NRC staff considers acceptable for demonstrating the operability of emergency core cooling systems (ECCSs) for boiling-water reactors (BWRs) whose licenses are issued after the date of issuance of this RG (new BWRs).

ADDRESSES: Please refer to Docket ID NRC-2012-0134 when contacting the NRC about the availability of information regarding this document. You may access publicly-available information related to this action by the following methods:

• Federal Rulemaking Web site: Go to http://www.regulations.gov and search for Docket ID NRC-2012-0134. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 0 of Regulatory Guide 1.79.1, is available in ADAMS under Accession No. ML12300A329. The regulatory analysis for Draft Regulatory Guide (DG)-1277 may be found in ADAMS under Accession No. ML12300A328.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Frank X. Talbot, Office of New Reactors; telephone: 301-415-4146, email: Frank.Talbot@nrc.gov, or Mark P. Orr, Office of Nuclear Regulatory Research; telephone: 301-251-7495, email: Mark.Orr@nrc.gov, U.S. Nuclear Regulatory Commission, Washington, DC 20555-0001.

SUPPLEMENTARY INFORMATION:

I. Introduction

The NRC is issuing a new guide in the NRC's “Regulatory Guide” series. This series was developed to describe and make available to the public information such as methods that are acceptable to the NRC staff for implementing specific parts of the agency's regulations, techniques that the staff uses in evaluating specific problems or postulated accidents, and data that the staff needs in its review of applications for permits and licenses.

This new guide describes methods that the staff of the NRC considers acceptable for demonstrating compliance with the NRC regulations as they relate to preoperational, low power, and power ascension testing features of the ECCS for new BWRs. This RG also describes methods that the NRC staff finds acceptable for initial plant testing of ECCS structures, systems, and components (SSCs). Additionally, this RG describes methods the NRC staff finds acceptable for testing of the Isolation Condenser System (ICS) and the Reactor Core Isolation Cooling (RCIC) System, which support functions for alternate water injection during station blackout.

II. Additional Information

Regulatory Guide 1.79.1 was issued with a temporary identification as Draft Regulatory Guide (DG)-1277, “Initial Test Program of Emergency Core Cooling Systems for Boiling-Water Reactors.” DG-1277, was published in the Federal Register on June 15, 2012 (77 FR 36014), for a 60-day public comment period. The public comment period closed on August 15, 2012. Forty-five public comments were received during this period. The NRC staff's responses to the public comments on DG-1277 are available in ADAMS under Accession No. ML12300A330.

III. Congressional Review Act

This regulatory guide is a rule as defined in the Congressional Review Act (5 U.S.C. 801-808). However, the Office of Management and Budget has not found it to be a major rule as defined in the Congressional Review Act.

IV. Backfitting Analysis

Issuance of this revised RG does not constitute backfitting as defined in 10 CFR 50.109 (the Backfit Rule) and is not otherwise inconsistent with the issue finality provisions in 10 CFR part 52. As discussed in the “Implementation” section of this RG, the NRC has no current intention to impose this RG on holders of current operating licenses, early site permits or combined licenses. The NRC may apply this RG to applications for operating licenses, early site permits and combined licenses docketed by the NRC as of the date of issuance of the final RG, as well as to future applications for operating licenses, early site permits, and combined licenses submitted after the issuance of the RG. Such action does not constitute backfitting as defined in 10 CFR 50.109(a)(1) and is not otherwise inconsistent with the applicable issue finality provision in 10 CFR part 52, inasmuch as such applicants or potential applicants are not within the scope of entities protected by the Backfit Rule or the relevant issue finality provisions in part 52.

Dated at Rockville, Maryland, this 4th day of October, 2013.
For the Nuclear Regulatory Commission.
Thomas H. Boyce,
Chief, Regulatory Guide Development Branch, Division of Engineering, Office of Nuclear Regulatory Research.

[FR Doc. 2013-24888 Filed 10-23-13; 8:45 am]

BILLING CODE 7590-01-P